DEPARTMENT OF ENERGY

Federal Energy Regulatory Commission

[Docket Nos. CP02-396-000 and PF01-1-000]

Greenbrier Pipeline Company, LLC; Notice of Availability of the Final Environmental Impact Statement for the Proposed Greenbrier Pipeline Project

February 28, 2003.

The staff of the Federal Energy Regulatory Commission (FERC or Commission) has prepared this final environmental impact statement (FEIS) on the natural gas pipeline facilities (the Greenbrier Pipeline Project) proposed by Greenbrier Pipeline Company, LLC (GPC) in the above-referenced dockets. The application and other supplemental filings in these dockets are available for viewing on the FERC Internet Web site (http://www.ferc.gov). Click on the “FERRIS” link, select “General Search,” then “Docket #” on the menu, and follow the instructions.

The FEIS was prepared to satisfy the requirements of the National Environmental Policy Act (NEPA). The staff concludes that approval of the proposed project with appropriate mitigating measures, as recommended, would result in some adverse environmental impacts. The FEIS evaluates alternatives to the proposal, including system alternatives, route alternatives, and route variations.

The purpose of the project is to create gas supply diversity and to meet a portion of the growing energy market in the South Atlantic region. The project would be designed to meet a variety of anticipated loads, including the growth of two local distribution companies, four natural gas-fired electric generation plants, and a natural gas marketer. The project is fully subscribed and would transport up to 600,000 decatherms per day of natural gas.

The proposed pipeline would extend from east of Clendenin, Kanawha County, West Virginia, through West Virginia, southwestern Virginia, and North Carolina to its terminus near Stem, in Granville County, North Carolina. It would consist of 275.6 miles of mainline and three laterals totaling 3.8 miles. The project would also construct 2 compressor stations, 3 meter stations, 18 stand alone block valves (additional block valves would be collocated at other aboveground facility sites), and appurtenant facilities, and about 212 access roads. Mainline DG-1 would extend from the proposed Elk River Compressor Station adjacent to Dominion Transmission, Inc.”s existing Cornwell Compressor Station to the proposed Public Service Company of North Carolina, Inc., a South Carolina Corporation's compressor station near Stem, North Carolina. DG-1 would include 20-, 24-, and 30-inch-diameter pipeline. Lateral DG-2 would consist of 12-inch-diameter pipeline that extends from DG-1 to the proposed Somerset Meter Station near Roxboro, North Carolina. Lateral DG-3 would consist of 10-inch-diameter pipeline that extends from the end of DG-1 to the proposed Mountain Creek Meter Station near Butner, North Carolina. Lateral DG-4 would consist of 30-inch-diameter pipeline that would interconnect the proposed Transco Meter Station and the proposed Eden Compressor Station in Rockingham County, North Carolina.

The FEIS has been placed in the public files of the FERC and is available for distribution and public inspection at: Federal Energy Regulatory Commission, Public Reference and Files Maintenance Branch, 888 First Street, NE., Room 2A, Washington, DC 20426, (202) 502-8371. E-mail: public.referenceroom@ferc.gov.

A limited number of copies are available from the Public Reference and Files Maintenance Branch identified above. In addition, copies of the FEIS have been mailed to Federal, State, and local government agencies; elected officials, environmental and public interest groups; affected landowners who requested a copy of the FEIS; Native American tribes that might attach religious and cultural significance to historic properties in the area of potential effect; local libraries and newspapers; and the Commission's list of parties to this proceeding.

In accordance with the Council on Environmental Quality (CEQ) regulations implementing the National Environmental Policy Act, no agency decision on a proposed action may be made until 30 days after the U.S. Environmental Protection Agency publishes a notice of availability of the FEIS. However, the CEQ regulations provide an exception to this rule when an agency decision is subject to a formal internal process which allows other agencies or the public to make their views known. In such cases, the agency decision may be made at the same time the notice of the FEIS is published, allowing both periods to run concurrently. The Commission decision for this proposed action is subject to a 30-day rehearing period.

Additional information about the proposed project is available from the Commission's Office of External Affairs, at 1-866-208-3372 or on the FERC Internet Web site (www.ferc.gov), using the “FERRIS” link to information in this docket number. Click on the “FERRIS” link, select “General Search” from the menu, and follow the instructions. For assistance, please contact FERC Online Support at FERCOnlineSupport@ferc.gov or toll free at 1-866-208-3676 or for TYY contact 1-202-502-8659. The FERRIS link on the FERC Internet Web site also provides access to the texts of formal documents issued by the Commission, such as orders, notices, and rulemakings.

Magalie R. Salas,
Secretary.

[FR Doc. 03-5373 Filed 3-6-03; 8:45 am]

BILLING CODE 6717-01-P